DEPARTMENT OF JUSTICE

Notice of Lodging of Proposed Consent Decree Under the Clean Air Act

On September 27, 2018, the Department of Justice lodged a proposed Consent Decree with the United States District Court for the Northern District of Iowa in the lawsuit entitled United States v. NGL Crude Logistics, LLC, Civil Action No. 2:16-cv-01038-LRR.

The United States filed this lawsuit under the Clean Air Act's Renewable Fuel Standard program. The United States' Complaint names NGL Crude Logistics, LLC (f/k/a Gavilon, LLC) and Western Dubuque Biodiesel, LLC as defendants. The Court entered a settlement resolving the United States' claims against Western Dubuque Biodiesel, LLC on April 11, 2017. The United States' Complaint seeks retirement of approximately 36 million Renewable Identification Numbers (RINs) and civil penalties.

The Complaint alleges that NGL Crude Logistics, LLC (1) failed to retire approximately 36 million RINs associated with biodiesel NGL Crude Logistics, LLC sold to Western Dubuque Biodiesel, LLC for use as material to create renewable fuel (feedstock); (2) caused Western Dubuque Biodiesel, LLC to commit prohibited acts under the Renewable Fuel Standard program; and (3) transferred approximately 36 million invalid RINs to third parties. The United States District Court for the Northern District of Iowa found NGL liable for these violations on July 3, 2018.

The proposed Consent Decree requires NGL Crude Logistics, LLC to pay a $25 million civil penalty and to purchase and retire 36 million RINs to resolve the civil claims alleged in the Complaint against NGL Crude Logistics, LLC through the date of lodging.

The publication of this notice opens a period for public comment on the consent decree. Comments should be addressed to the Assistant Attorney General, Environment and Natural Resources Division, and should refer to United States v. NGL Crude Logistics, LLC, D.J. Ref. No. 90-5-2-1-11163. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $6.75 (25 cents per page reproduction cost) payable to the United States Treasury.

Robert Brook,
Assistant Section Chief, Environmental Enforcement Section, Environment and Natural Resources Division.

[FR Doc. 2018-21484 Filed 10-2-18; 8:45 am]

BILLING CODE 4410-15-P